DEPARTMENT OF ENERGY

[Docket No. EA-158-A]

Applications To Export Electric Energy; Williams Energy Marketing and Trading Company

AGENCY: Office of Fossil Energy, DOE.

ACTION: Notice of Application.

SUMMARY: Williams Energy Marketing and Trading Company (Williams), formerly Willliams Energy Service Company, has applied for renewal of its authority to transmit electric energy from the United States to Canada pursuant to section 202(e) of the Federal Power Act.

DATES: Comments, protests or requests to intervene must be submitted on or before March 3, 2000.

ADDRESSES: Comments, protests or requests to intervene should be addressed as follows: Office of Coal & Power Im/Ex (FE-27), Office of Fossil Energy, U.S. Department of Energy, 1000 Independence Avenue, SW, Washington, DC 20585-0350 (FAX 202-287-5736).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On October 1, 1997, the Office of Fossil Energy (FE) of the Department of Energy (DOE) issued Order No. EA-158 authorizing Williams to transmit electric energy from the United States to Canada as a power marketer using the international electric transmission facilities of Basin Electric Power Cooperative, Bonneville Power Administration, Citizens Utilities Company, Detroit Edison Company, Eastern Maine Electric Cooperative, Joint Owners of the Highgate Project, Maine Electric Power Company, Maine Public Service Company, Minnesota Power & Light Company, Minnkota Power Cooperative, New York Power Authority, Niagara Mohawk Power Corporation, Northern States Power Company, and Vermont Electric Transmission Company. That two-year authorization expired on October 1, 1999.

On January 10, 2000, Williams filed an application with FE for renewal of its two-year authorization to export electricity to Canada and requested that the international transmission facilities of Long Sault, Inc. be added to the list of authorized export points.

Williams, a Delaware corporation with its principal place of business in Tulsa, Oklahoma, is a power marketer and does not own or control any facilities for the transmission or distribution of electricity, nor does it have a franchised service area. However, Williams is affiliated with entities that do own power generation facilities. Williams proposes to transmit to Canada electric energy purchased from electric utilities and other suppliers within the U.S.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the Williams application to export electric energy to Canada should be clearly marked with Docket EA-158-A. Additional copies are to be filed directly with Charlene K. Stanford, Regulatory Analyst, Williams Energy Marketing & Trading Company, P.O. Box 2848, Tulsa, OK 74101, AND Hillary E. Cinocca, Esq., The Williams Companies, Inc., One Williams Center, Suite 4100, Tulsa, OK 74172.

DOE notes that the circumstances described in this application are virtually identical to those for which export authority had previously been granted in FE Order EA-158. Consequently, DOE believes that it has adequately satisfied its responsibilities under the National Environmental Policy Act of 1969 through the documentation of a categorical exclusion in the FE Docket EA-158 proceeding.

Copies of these applications will be made available, upon request, for public inspection and copying at the address provided above or by accessing the Fossil Energy Home Page at http://www.fe.doe.gov. Upon reaching the Fossil Energy Home page, select “Regulatory”, then “Electricity”, then “Pending Proceedings” from the options menus.

Issued in Washington, DC on January 24, 2000.
Anthony J. Como,
Deputy Director, Electric Power Regulation, Office of Coal & Power Im/Ex, Office of Coal & Power Systems, Office of Fossil Energy.

[FR Doc. 00- 2277 Filed 2-1-00; 8:45 am]

BILLING CODE 6450-01-P